DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, November 29, 2012, 8:00 a.m. to November 30, 2012, 5:00 p.m., Fishers Lane Conference Center, 5635, Fisher Lane, Terrace Level, Rockville, MD, 20852 which was published in the Federal Register on November 7, 2012, 2012-27093.

The meeting location has changed to The Hilton Washington/Rockville, 1750 Rockville Pike, Rockville, MD 20852. The meeting is closed to the public.

Dated: November 7, 2012.
Carolyn Baum,
Program Analyst, Office of Federal Advisory Committee Policy.

[FR Doc. 2012-27584 Filed 11-13-12; 8:45 am]

BILLING CODE 4140-01-P